DEPARTMENT OF LABOR

Employment and Training Administration

[TA-W-56,981]

Source Electronics Corporation; Hollis, NH; Notice of Termination of Investigation

Pursuant to Section 221 of the Trade Act of 1974, as amended, an investigation was initiated on April 15, 2005 in response to a petition filed by a company official on behalf of workers of Source Electronics Corporation, Hollis, New Hampshire.

The petitioner has requested that the petition be withdrawn. Consequently, further investigation would serve no purpose and the investigation has been terminated.

Signed at Washington, DC, this 3rd day of May, 2005.
Linda G. Poole,
Certifying Officer, Division of Trade Adjustment Assistance.

[FR Doc. E5-2517 Filed 5-18-05; 8:45 am]

BILLING CODE 4510-30-P